DEPARTMENT OF ENERGY

Federal Energy Regulatory Commission

[Project No. 9282-037]

PVM Commercial Center, LLC; Pine Valley Hydroelectric Power Company, LLC; Notice of Application for Transfer of License and Soliciting Comments, Motions To Intervene, and Protests

On December 20, 2017, PVM Commercial Center, LLC (transferor) and Pine Valley Hydroelectric Power Company, LLC (transferee) filed an application for the transfer of license for the Pine Valley Project No. 9282. The project is located on the Souhegan River in Hillsborough County, New Hampshire. The project does not occupy Federal lands.

The applicants seek Commission approval to transfer the license for the Pine Valley Project from the transferor to the transferee.

Applicant's Contact: For Transferor and Transferee: Mr. Martin G. Greco, Pine Valley Hydroelectric Power Company, LLC, PO Box 9, South Casco, ME 04077, Phone: 207-655-7000, Email: mgreco@evergreenelectric.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-9282-037.

Dated: January 18, 2018.
Kimberly D. Bose,
Secretary.

[FR Doc. 2018-01229 Filed 1-23-18; 8:45 am]

BILLING CODE 6717-01-P